DEPARTMENT OF HEALTH AND HUMAN SERVICES

Administration for Children and Families

Proposed Information Collection Activity; Understanding the Value of Centralized Services Study (New Collection)

AGENCY: Office of Planning, Research, and Evaluation, Administration for Children and Families, HHS.

ACTION: Request for public comment.

SUMMARY: The Administration for Children and Families (ACF), U.S. Department of Health and Human Services (HHS) is proposing a new data collection activity as part of the Understanding the Value of Centralized Services study. The objective of this descriptive study is to understand the advantages, disadvantages, and costs of centralizing social services for individuals and families with low incomes.

DATES: Comments due within 60 days of publication. In compliance with the requirements of the Paperwork Reduction Act of 1995, ACF is soliciting public comment on the specific aspects of the information collection described above.

ADDRESSES: Copies of the proposed collection of information can be obtained and comments may be submitted by emailing OPREinfocollection@acf.hhs.gov. All requests should be identified by the title of the information collection.

SUPPLEMENTARY INFORMATION:

Description: This descriptive study aims to provide insight into the models that have been used to centralize services; organizations' history of and impetus for centralizing services; the benefits, challenges, and costs of centralizing services from the perspectives of staff and clients; and how organizations have coordinated their centralized services virtually. This project will include site visits to three centralized community resource centers (CCRCs). The proposed information collection activities include interviews with staff, including leadership and administrative staff, frontline staff, finance staff, and IT/data staff, and focus groups with clients. The research team will also conduct observations of program activities.

Respondents: Respondents will include leadership and administrative staff at the CCRC, staff who manage finances at the CCRC, staff who manage data and/or technology at the CCRC, staff who provide services directly to clients at the CCRC, and clients who have accessed services at the CCRC.

Annual Burden Estimates
Instrument | Number of respondents (total over request period) | Number of responses per respondent (total over request period) | Avg. burden per response (in hours) | Total/annual burden (in hours)
Interview guide for administrative/leadership staff | 18 | 1 | 1.25 | 23
Interview guide for frontline staff | 48 | 1 | 1.25 | 60
Interview guide for finance staff | 9 | 1 | 1 | 9
Interview guide for IT/data staff | 9 | 1 | 1 | 9
Focus group guide for clients | 30 | 1 | 1.5 | 45

Estimated Total Annual Burden Hours: 146.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Authorized by the Social Security Act 1110 [42 U.S.C. 1310], appropriated by the Continuing Appropriations Act of 2019.

Mary B. Jones,
ACF/OPRE Certifying Officer.

[FR Doc. 2021-20556 Filed 9-22-21; 8:45 am]

BILLING CODE 4184-07-P